DEPARTMENT OF THE INTERIOR

Fish and Wildlife Service

Information Collection Renewal To Be Submitted to the Office of Management and Budget (OMB) for Approval Under the Paperwork Reduction Act; Private Stewardship Grants Program; 1018-0118

AGENCY: Fish and Wildlife Service, Interior.

ACTION: Notice; request for comments.

SUMMARY: The Fish and Wildlife Service (We/Service) plans to submit the collection of information described below to OMB for approval under the provisions of the Paperwork Reduction Act. We use the information collected for the Private Stewardship Grants Program (PSGP) to review requests for funding and to comply with Federal reporting requirements for grants awarded under this program.

DATES: You must submit comments on or before March 23, 2005.

ADDRESSES: Send your comments on the information collection requirement via mail to the Information Collection Clearance Officer, Fish and Wildlife Service, Mail Stop 222-ARLSQ, 4401 North Fairfax Drive, Arlington, Virginia 22203; via fax at (703) 358-2269; or via 3-mail at Hope_Grey@fws.gov.

FOR FURTHER INFORMATION CONTACT: To request a copy of the proposed information collection requirement or explanatory material, contact Hope Grey, Information Collection Clearance Officer, at the address above or by telephone at (703) 358-2482.

SUPPLEMENTARY INFORMATION: OMB regulations at 5 CFR 1320, which implement provisions of the Paperwork Reduction Act of 1995 (44 U.S.C. 3501 et seq.), require that interested members of the public and affected agencies have an opportunity to comment on information collection and recordkeeping activities (see 5 CFR 1320.8(d)). We plan to submit a request to OMB to renew approval of the collection of information for the Private Stewardship Grants Programs (PSGP), which expires on July 31, 2005. The OMB control number for this collection of information is 1018-0118. We are requesting a 3-year term of approval for this information collection activity. Federal agencies may not conduct or sponsor and a person is not required to a collection of information unless its displays a currently valid OMB control number.

The PSGP provides grants and other assistance on a competitive basis to individuals and groups engaged in private conservation efforts that benefit species listed or proposed as endangered or threatened under the Endangered Species Act, candidate species, or other at-risk species. In implementing the PSGP, we request project proposals from the public. For projects selected for funding, we also request information to satisfy Federal reporting requirements. These requests constitute an information collection requiring OMB approval under the Paperwork Reduction Act.

Congress established the Private Stewardship Grants Program (PSGP) in 2002. Pending appropriations, a notice of funding availability is posted annually on the http://www.grants.gov website. The information collection associated with the PSGP is authorized by the 2005 Consolidated Appropriations Act (H.R. 4818; Pub. L. 108-447). The information collection associated with the PSGP is voluntary, but is required to receive benefits in the form of a grant. The funding provided to private landowners through this program will address threats to many critically imperiled species. Taking action to establish partnerships with private landowners through the PSGP is central to our mission.

The information collected in the request for proposals is used in a competitive funding process to determine the eligibility and relative value of conservation projects as described in the project proposals. The information is used by Service employees. Additionally, a diverse panel of representatives from State and Federal government, conservation organizations, agriculture and development interests, and the science community assesses project proposals and makes funding recommendations to the Service. Information collected under this program is used to respond to such needs as: Government Performance and Results Act (GPRA) reporting, grant agreements, budget reports and justification, public and private requests for information, data provided to other programs for databases on similar programs, Congressional inquiries, and other informational reports. We also collect information from award recipients on an annual basis to fulfill Federal grant reporting requirements.

If we did not collect the information, we would have to eliminate the PSGP because it would not be possible to determine eligibility and the scale of resource values or relative worth of the proposed projects. Reducing the frequency of the information collection would only reduce the frequency of windows for grant opportunities as the information is unique to each project.

Title: Stewardship Grants Program.

OMB Control Number: 1018-0118.

Form Number: None.

Frequency: A request for proposals is issued annually. In addition, grant recipients must submit reports on an annual basis.

Description of Respondents: Private landowners, including individuals and nonprofit organizations.

Total Annual Burden Hours: 12,400 hours.

Total Annual Responses: Approximately 300 respondents.

We consulted four previous respondents about the availability of the information requested, the clarity of the instructions, and the annual hour burden for the application materials and the annual reports. All respondents said that the application instructions are clear and the information is easily available. The respondents estimated the hour burden for the application from 1 day to 3 weeks. We believe that this variance results from some respondents estimating the entire time it took them to develop the project as well as to present that information in the form of an application, whereas other respondents only included the actual time to write the application materials. The average hour burden estimated by respondents is approximately 40 hours. The average number of applicants is about 300. The hour burden estimated by the respondents for the reporting requirements varied between 2 hours and 8 hours, with an average of about 4 hours. The average number of award recipients is about 100. The total annual burden hours is 12,000 hours for the project proposals and 400 hours for reporting activities.

We invite your comments on: (1) Whether or not the collection of information is necessary for the proper performance of the Private Stewardship Grants Program, including whether or not the information will have practical utility; (2) the accuracy of our estimate of the burden of the collection of information; (3) ways to enhance the quality, utility, and clarity of the information to be collected; and (4) ways to minimize the burden of the collection of information on respondents. The information collections in this program are part of a system of records covered by the Privacy Act (5 U.S.C. 552(a)).

Dated: January 5, 2005.
Hope Grey,
Information Collection Clearance Officer, Fish and Wildlife Service.

[FR Doc. 05-1134 Filed 1-19-05; 8:45 am]

BILLING CODE 4310-55-M